DEPARTMENT OF EDUCATION

Discretionary Grant Programs

AGENCY: Department of Education.

ACTION: Notice of proposed priorities.

SUMMARY: The Secretary of Education proposes priorities that the Department of Education (Department) may use for any appropriate discretionary grant program in fiscal year (FY) 2007 and in FY 2008. We take this action to focus Federal financial assistance on expanding the number of programs and projects Department-wide that support activities in areas of greatest educational need. Although we expect that these priorities will have the greatest applicability to programs authorized by the Elementary and Secondary Education Act of 1965 (as amended by the No Child Left Behind Act of 2001), we are establishing the priorities on a Department-wide basis, so that Department offices can use one or more of these priorities in any discretionary grant competition, as appropriate.

DATES: We must receive your comments on or before September 6, 2006.

ADDRESSES: Address all comments about these proposed priorities to Margo K. Anderson, U.S. Department of Education, 400 Maryland Avenue, SW., Room 4W311, Washington, DC 20202-5910. If you prefer to send your comments through the Internet, use the following address: comments@ed.gov.

You must include the term “Department Priorities” in the subject line of your electronic message.

FOR FURTHER INFORMATION CONTACT: Margo Anderson. Telephone: (202) 205-3010 or via Internet at Margo.Anderson@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding these proposed priorities. To ensure that your comments have maximum effect in developing the notice of final priorities, we urge you to identify the specific proposed priority that each comment addresses.

We invite you to assist us in complying with the specific requirements of Executive Order 12866 and its overall requirement of reducing regulatory burden that might result from these proposed priorities. Please let us know of any further opportunities we should take to reduce potential costs or increase potential benefits while preserving the effective and efficient administration of the Department's programs.

During and after the comment period, you may inspect all public comments about these proposed priorities in room 4W333, 400 Maryland Avenue, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities. If you want to schedule an appointment for this type of aid, please contact the person listed under FOR FURTHER INFORMATION CONTACT.

General

In the four years since the enactment of the No Child Left Behind Act of 2001, there have been significant changes in our educational system that provide a strong framework for reaching the goal that all students will be proficient in reading/language arts and mathematics by the year 2014. States have put in place rigorous new accountability systems and in this school year (2005-2006) administered reading and mathematics assessments covering all students in grades 3 to 8 and at least once for students in grades 10 to 12. By school year 2007-2008, States will be assessing students in science at least once in each of three grade spans (3-5, 6-9, 10-12). A focus on professional development and teacher qualifications is helping States to ensure that increasing numbers of students are being taught by highly qualified teachers. School districts are providing new support and assistance to schools in need of improvement, while making available public school choice and supplemental educational services options to eligible students who attend these schools.

National Assessment of Educational Progress (NAEP) results for older students provide a reminder of the need to continue to emphasize high standards and accountability for all students, especially those in the higher grades. The 2005 NAEP math results for 8th graders, for example, are both illustrative and alarming: less than one-third of 8th graders, and just 13 percent of low-income 8th graders, scored at the proficient level or above. High school test scores in mathematics have barely budged since the 1970s, and according to the American College Testing, Inc. (ACT), less than half of high school graduates in 2005 were ready for college-level math and science coursework.

America's rapidly changing economy requires an educational system that is producing high school graduates with the skills needed to be successful in postsecondary education and the workforce. In addition to improving the academic achievement of students in mathematics and science, we must expand the number of Americans mastering foreign languages critical to national security and to our participation in the global economy. High schools must develop a larger pool of technically adept and numerically literate Americans, a continual supply of highly trained mathematicians, scientists, and engineers, and more students with higher levels of proficiency in critical-need languages. The Department believes that high-quality professional development for secondary school teachers is a critical part of the solution, because it can help ensure that these teachers have the content knowledge and expertise required to improve student achievement.

Rigorous instruction, high standards, and accountability for results are helping to raise achievement in the early grades. Now America must complete the task. We must focus on improving the mathematics and science achievement of secondary school students, expanding foreign language learning to include critical-need languages, providing teachers with better training and support, helping districts improve all their schools, and ensuring that all students meet rigorous State mathematics and science academic standards and graduate from high school. Student performance is not just an education issue; it is an economic issue, a civic issue, a social issue, and a national security issue.

In addition to content-specific priorities, the Secretary is proposing a priority for collecting data to assess the effect of projects on the academic achievement of student participants relative to appropriate comparison or control groups. The Secretary believes that interventions must be designed to collect the best available data to determine the impact of the proposed intervention on student achievement and to inform future improvement efforts. Finally, to assist schools and districts in using data effectively, we are proposing a priority for projects that will help educators use information from State data systems to improve student achievement or other appropriate outcomes.

Discussion of Proposed Priorities

We will announce the final priorities in a notice in the Federal Register. We will determine the final priorities after considering public comments on the proposed priorities and other information available to the Department. This notice does not preclude the Secretary from proposing or funding additional priorities, subject to meeting applicable rulemaking requirements.

Note: This notice does not solicit applications. In any year in which we choose to use one or more of these proposed priorities, we invite applications for new awards under the applicable program through a notice in the Federal Register. When inviting applications we designate the priorities as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive preference priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities

The Secretary proposes priorities that the Department may use for discretionary grant competitions in FY 2007 and FY 2008, as appropriate. The Secretary intends that these priorities will allow program participants and the Department to focus limited Federal resources on areas of greatest educational need. The Secretary recognizes that some of the priorities will not be appropriate for particular programs.

Proposed Priority 1—Mathematics. Projects that support activities to enable students to achieve proficiency or advanced proficiency in mathematics.

Proposed Priority 2—Science. Projects that support activities to enable students to achieve proficiency or advanced proficiency in science.

Proposed Priority 3—Critical-Need Languages. Projects that support activities to enable students to achieve proficiency or advanced proficiency in one or more of the following less commonly taught languages: Arabic, Chinese, Korean, Japanese, Russian, and languages in the Indic, Iranian, and Turkic language families.

Proposed Priority 4—Secondary Schools. Projects that support activities and interventions aimed at improving the academic achievement of secondary school students who are at greatest risk of not meeting challenging State academic standards and not completing high school.

Proposed Priority 5—Professional Development for Secondary School Teachers. Projects that support high-quality professional development for secondary school teachers to help these teachers improve student academic achievement.

Proposed Priority 6—School Districts with Schools in Need of Improvement, Corrective Action, or Restructuring. Projects that help school districts implement academic and structural interventions in schools that have been identified for improvement, corrective action, or restructuring under the Elementary and Secondary Education Act of 1965, as amended by the No Child Left Behind Act of 2001.

Proposed Priority 7—Student Achievement Data. Projects that collect pre- and post-intervention test data to assess the effect of the projects on the academic achievement of student participants relative to appropriate comparison or control groups.

Proposed Priority 8—State Data Systems. Projects that help educators use information from State data systems to improve student achievement or other appropriate outcomes.

Executive Order 12866

This notice of proposed priorities has been reviewed in accordance with Executive Order 12866. Under the terms of the order, we have assessed the potential costs and benefits of this regulatory action.

The potential costs associated with the notice of proposed priorities are those resulting from statutory requirements and those we have determined as necessary for administering the Department's discretionary grant programs effectively and efficiently.

In assessing the potential costs and benefits—both quantitative and qualitative—of this notice of proposed priorities, we have determined that the benefits of the proposed priorities justify the costs.

We have also determined that this regulatory action does not unduly interfere with State, local, and tribal governments in the exercise of their governmental functions.

Executive Order 12372

Some of the programs affected by these proposed priorities are subject to Executive Order 12372 and the regulations in 34 CFR part 79. One of the objectives of the Executive order is to foster an intergovernmental partnership and a strengthened federalism. The Executive order relies on processes developed by State and local governments for coordination and review of proposed Federal financial assistance.

This document provides early notification of our specific plans and actions for these programs.

Electronic Access to This Document

You may view this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html

(Catalog of Federal Domestic Assistance Number does not apply.)

Program Authority: 20 U.S.C. 1221e-3; 20 U.S.C. 6301 et. seq.

Dated: August 1, 2006.
Margaret Spellings,
Secretary of Education.

[FR Doc. E6-12780 Filed 8-4-06; 8:45 am]

BILLING CODE 4000-01-P